DEPARTMENT OF ENERGY

Federal Energy Regulatory Commission

Combined Notice of Filings #2

Take notice that the Commission received the following electric rate filings:

Docket Numbers: ER11-4315-003; ER10-3110-002; ER10-3144-003.

Applicants: Gila River Power LLC, Union Power Partners, L.P., Entegra Power Services LLC.

Description: Notice of Non-Material Change in Status of the Entegra Public Utilities.

Filed Date: 11/3/14.

Accession Number: 20141103-5121.

Comments Due: 5 p.m. ET 11/24/14.

Docket Numbers: ER14-355-000.

Applicants: Startrans IO, LLC.

Description: eTariff filing per 35.19a(b): Refund Report to be effective N/A.

Filed Date: 11/3/14.

Accession Number: 20141103-5137.

Comments Due: 5 p.m. ET 11/24/14.

Docket Numbers: ER15-70-000.

Applicants: Erie Power, LLC.

Description: Supplement to October 9, 2014 Erie Power, LLC tariff filing.

Filed Date: 10/31/14.

Accession Number: 20141031-5344.

Comments Due: 5 p.m. ET 11/14/14.

Docket Numbers: ER15-312-000.

Applicants: Southwestern Electric Power Company.

Description: § 205(d) rate filing per 35.13(a)(2)(iii): SWEPCO-ETEC NTEC PSA Amendment to be effective 1/1/2015.

Filed Date: 11/3/14.

Accession Number: 20141103-5054.

Comments Due: 5 p.m. ET 11/24/14.

Docket Numbers: ER15-313-000.

Applicants: DTE Electric Company.

Description: § 205(d) rate filing per 35.13(a)(2)(iii): Village of Clinton Interconnection Agreement to be effective 11/28/2014.

Filed Date: 11/3/14.

Accession Number: 20141103-5119.

Comments Due: 5 p.m. ET 11/24/14.

Docket Numbers: ER15-314-000.

Applicants: NaturEner Wind Watch, LLC.

Description: § 205(d) rate filing per 35.13(a)(2)(iii): Revised MBR Tariff to be effective 11/3/2014.

Filed Date: 11/3/14.

Accession Number: 20141103-5122.

Comments Due: 5 p.m. ET 11/24/14.

Docket Numbers: ER15-315-000.

Applicants: Startrans IO, LLC.

Description: § 205(d) rate filing per 35.13(a)(2)(iii): 2015 Update to TRBAA in Appendix I to be effective 1/1/2015.

Filed Date: 11/3/14.

Accession Number: 20141103-5148.

Comments Due: 5 p.m. ET 11/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2014.
Nathaniel J. Davis, Sr.,
Deputy Secretary.

[FR Doc. 2014-26756 Filed 11-12-14; 8:45 am]

BILLING CODE 6717-01-P